DEPARTMENT OF AGRICULTURE

Forest Service

Information Collection; Storage and Use of Explosives and Magazine Security on National Forest System Lands Under a Special Use Authorization

AGENCY: Forest Service, USDA.

ACTION: Notice; request for comment.

SUMMARY: In accordance with the Paperwork Reduction Act of 1995, the Forest Service is seeking comments on a new information collection request entitled Storage and Use of Explosives and Magazine Security on National Forest System Lands under a Special Use Authorization.

DATES: Comments must be received in writing by February 12, 2021.

ADDRESSES: Comments concerning this notice should be sent to Sean Wetterberg, National Winter Sports Program Manager, 125 South State Street, Suite 7105, Salt Lake City, UT 84138. Comments also may be submitted by email at sean.wetterberg@usda.gov.

The public may inspect comments received at the address above during normal business hours. Visitors are encouraged to call ahead to facilitate entry to the building at 801-975-3793.

FOR FURTHER INFORMATION CONTACT: Sean Wetterberg, National Winter Sports Program Manager at by telephone at 801-975-3793 or by email at sean.wetterberg@usda.gov. Individuals who use telecommunication devices for the deaf may call the Federal Relay Service FRS at 800-877-8339, 24 hours a day, every day of the year, including holidays.

SUPPLEMENTARY INFORMATION:

Title: Storage and Use of Explosives and Magazine Security on National Forest System Lands Under a Special Use Authorization.

OMB Number: 0596-NEW.

Type of Request: New.

Abstract: Existing directives in the Forest Service Manual and Handbook are being revised to improve security and administration of explosive magazines and explosives use that are authorized under a special use authorization. The revisions clarify that all non-Forest Service storage and use of explosives, including use and storage of military weapons and ammunition for purposes of avalanche mitigation on National Forest System lands, must be authorized by a special use authorization that contains clause B-29 in Forest Service Handbook 2709.11, Chapter 50, section 52.2, on storage and use of explosives and magazine security. Clause B-29 requires authorization holders to comply with applicable United States Department of Justice, Bureau of Alcohol, Tobacco, Firearms and Explosives, state, or Department of the Army requirements and applicable Forest Service requirements.

To allow the Forest Service to monitor holder compliance with clause B-29, the revised directives require holders of an authorization containing the clause to submit certain documentation annually as part of their operating plan. The required documentation includes copies of a log containing the date and type of magazine inspections (including inspections required every seven days) and the date all deficiencies identified in any magazine inspection report were corrected; copies of any magazine inspection reports; a copy of the holder's current ATF-issued federal explosives license or federal explosives permit, if applicable; and a copy of a log containing the date of the most recent magazine lock and key replacement.

Estimate of Annual Burden: 10 minutes.

Type of Respondents: Holders of a special use authorization authorizing the storage and use of explosives.

Estimated Annual Number of Respondents: 60.

Estimated Annual Number of Responses per Respondent: 1.

Estimated Total Annual Burden on Respondents: 10 hours.

Comment is invited on (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Michiko J. Martin,
Director, Recreation, Heritage & Volunteer Services, National Forest System.

[FR Doc. 2020-27361 Filed 12-11-20; 8:45 am]

BILLING CODE 3411-15-P